DEPARTMENT OF ENERGY

Federal Energy Regulatory Commission

Combined Notice of Filings #1

January 13, 2006.

Take notice that the Commission received the following electric rate filings:

Docket Numbers: ER02-1947-007.

Applicants: Occidental Power Services, Inc.

Description: Occidental Power Services, Inc informs FERC of a correction to the description of the ownership of one of its affiliates that was included in its 5/31/02 application for market-based rate authority.

Filed Date: 01/09/2006.

Accession Number: 20060112-0311.

Comment Date: 5 p.m. Eastern Time on Monday, January 30, 2006.

Docket Numbers: ER02-2330-039.

Applicants: ISO New England Inc.

Description: ISO New England Inc submits quarterly status report concerning the implementation of Standard Market Design.

Filed Date: 12/12/2005.

Accession Number: 20051214-0206.

Comment Date: 5 p.m. Eastern Time on Monday, January 23, 2006.

Docket Numbers: ER02-2263-006.

Applicants: Southern California Edison Company.

Description: Southern Calif. Edison Co. submits Notice of Change in Status.

Filed Date: 01/09/2006.

Accession Number: 20060109-5041.

Comment Date: 5 p.m. Eastern Time on Monday, January 30, 2006.

Docket Numbers: ER03-9-005; ER98-2157-006; EL05-64-000.

Applicants: Westar Energy, Inc. and Kansas Gas and Electric Company.

Description: Westar Energy Inc. and Kansas Gas and Elec Co., submit additional information in response to FERC's deficiency letter order dated 12/8/01.

Filed Date: 01/09/2006.

Accession Number: 20060112-0304.

Comment Date: 5 p.m. Eastern Time on Monday, January 30, 2006.

Docket Numbers: ER05-283-004; ER05-1232-002.

Applicants: JPMorgan Chase Bank, N.A.; J.P. Morgan Ventures Energy Corporation.

Description: JPMorgan Chase Bank, N.A. and J.P. Morgan Ventures Energy Corp., submit Change in Status.

Filed Date: 01/09/2006.

Accession Number: 20060109-5058.

Comment Date: 5 p.m. Eastern Time on Monday, January 30, 2006.

Docket Numbers: ER05-1452-001.

Applicants: Duke Energy Transmission.

Description: Duke Electric Transmission submits a clean version of the Affected System Operating Agreement with North Carolina Electric Membership Corp, designated as First Revised Service Agreement No. 339 etc.

Filed Date: 01/06/2006.

Accession Number: 20060112-0340.

Comment Date: 5 p.m. Eastern Time on Friday, January 27, 2006.

Docket Numbers: ER06-22-001.

Applicants: Midwest Independent Transmission System Operator, Inc.

Description: Midwest Independent Transmission System Operator, Inc submits a supplemental informational filing to its unexecuted Large Generator Interconnection Agreement with Endeavor Power Partners, LLC et al.

Filed Date: 01/09/2006.

Accession Number: 20060112-0312.

Comment Date: 5 p.m. Eastern Time on Monday, January 30, 2006.

Docket Numbers: ER06-35-001.

Applicants: Aquila, Inc.

Description: Aquila, Inc submitted for approval changes to an existing Agreement for Interchange of Power & Interconnected Operations Agreement between Aquila and Associated Electric Cooperative, Inc.

Filed Date: 01/09/2006.

Accession Number: 20060112-0313.

Comment Date: 5 p.m. Eastern Time on Monday, January 30, 2006.

Docket Numbers: ER06-196-001.

Applicants: Cantor Fitzgerald Brokerage, LP.

Description: Cantor Fitzgerald Brokerage, LP submits revisions to its proposed tariff to address concerns raised by FERC Staff.

Filed Date: 01/06/2006.

Accession Number: 20060112-0322.

Comment Date: 5 p.m. Eastern Time on Friday, January 27, 2006.

Docket Numbers: ER06-461-000.

Applicants: Velocity Futures, LP.

Description: Velocity Futures submits the Petition for Acceptance of Initial Rate Schedule, Waivers and Blanket Authority.

Filed Date: 01/09/2006.

Accession Number: 20060112-0320.

Comment Date: 5 p.m. Eastern Time on Monday, January 30, 2006.

Docket Numbers: ER06-467-000.

Applicants: Union Electric Company.

Description: Union Electric Co dba AmerenUE et al submits the Second Amendment to the Joint Dispatch Agreement between Union Electric Co, Central Illinois Public Service and AmerenUE.

Filed Date: 01/09/2006.

Accession Number: 20060112-0327.

Comment Date: 5 p.m. Eastern Time on Monday, January 30, 2006.

Docket Numbers: ER06-469-000.

Applicants: Western Systems Power Pool.

Description: Western Systems Power Pool Inc submits this letter requesting that the Commission amend the Western Systems Power Pool Agreement to include CalBear Energy LP et al.

Filed Date: 01/09/2006.

Accession Number: 20060112-0328.

Comment Date: 5 p.m. Eastern Time on Monday, January 30, 2006.

Docket Numbers: ER06-78-002.

Applicants: PJM Interconnection, LLC.

Description: PJM Interconnection, LLC submits an amendment to their Open Access Transmission Tariff, First Revised Sheet No. 268B to FERC Electric Tariff, Sixth Revised Volume No. 1 in compliance with FERC's 12/20/05 Order.

Filed Date: 01/09/2006.

Accession Number: 20060112-0314.

Comment Date: 5 p.m. Eastern Time on Monday, January 30, 2006.

Docket Numbers: ER99-830-015; ER04-925-007.

Applicants: Merrill Lynch Capital Services, Inc.; Merrill Lynch Commodities, Inc.

Description: Merrill Lynch Capital Services, Inc. & Merrill Lynch Commodities, Inc reports a change in status.

Filed Date: 01/09/2006.

Accession Number: 20060112-0319.

Comment Date: 5 p.m. Eastern Time on Monday, January 30, 2006.

Docket Numbers: ER99-3665-006.

Applicants: Occidental Power Marketing, LP.

Description: Occidental Power Marketing, LP informs FERC of a correction of the description of the ownership of one of its affiliates that was included in its 4/15/04 market power update.

Filed Date: 01/09/2006.

Accession Number: 20060112-0318.

Comment Date: 5 p.m. Eastern Time on Monday, January 30, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-601 Filed 1-19-06; 8:45 am]

BILLING CODE 6717-01-P